DEPARTMENT OF HEALTH AND HUMAN SERVICES

Administration on Aging

Agency Information Collection Activities; Submission for OMB Review; Comment Request; Alzheimer's Disease Demonstration Grants to States Program Standardized Data Collection

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by March 16, 2007.

ADDRESSES: Submit written comments on the collection of information by fax 202.395.6974 or by mail to the Office of Information and Regulatory Affairs, OMB, New Executive Office Bldg., 725 17th St. NW., rm. 10235, Washington, DC 20503, Attn: Carolyn Lovett, Desk Officer for AoA.

FOR FURTHER INFORMATION CONTACT: Lori Stalbaum at 202-357-3452 or e-mail: lori.stalbaum@aoa.hhs.gov

SUPPLEMENTARY INFORMATION: In compliance with 44 U.S.C. 3507, AoA has submitted the following proposed collection of information to OMB for review and clearance.

The Alzheimer's Disease Demonstration Grants to States (ADDGS) Program is authorized through Sections 398, 399 and 399A of the Public Health Service (PHS) Act, as amended by Public Law 101-557 Home Health Care and Alzheimer's Disease Amendments of 1990. The ADDGS program funded through AoA helps states extend family support services provided by subgrantees to underserved populations, including those in rural communities.

The PHS Act requires AoA to “provide for an evaluation of each demonstration project for which a grant is made.” The PHS Act further states that “not later than 6 months after the completion of such evaluations, submit a report to the Congress describing the findings made as a result of the evaluations.” In compliance with the PHS Act, AoA developed a new State data collection protocol that will require future ADDGS state grantees (those funded starting in FY 2007) to transmit annual data information to AoA reported to the states by the project partners.

Many of the elements for the ADDGS Data Program Report are the same as those collected for Older Americans Act Title III and Title VII programs administered by AoA. To ensure inclusion of essential information the ADDGS Project Officer first contacted all current ADDGS grantees to find out what type of information they are already collecting. Then, the ADDGS Project Officer solicited information on key data elements from experts familiar with the previous ADDGS Program evaluation. Following this input, modifications were made to the data collection tool and input was solicited from all ADDGS state Project Directors and their project partners. Twenty-three (23) of thirty-eight (38) states, approximately 60% responded to the request for feedback. Again, modifications were made to fine tune the data collection tool into a format that would minimize burden on state grantees. Finally, ten (10) ADDGS Project Directors participated in a telephone focus group. The ten Project Directors were selected based on the detail of their responses to the original request for feedback.

The result of this input is the proposed data collection tool and accompanying definition of terms. AoA is aware that different states have different capabilities in terms of data collection. Thus, it is understood that following the approval of the proposed ADDGS data collection tool, AoA will need to work with ADDGS grantees to ensure easy access to a reporting system as well as offer regular training to state grantees to ensure minimal burden.

AoA estimates the burden of this collection of information as follows: 950 hours.

Dated: February 9, 2007.
Josefina G. Carbonell,
Assistant Secretary for Aging.

[FR Doc. E7-2545 Filed 2-13-07; 8:45 am]

BILLING CODE 4154-01-P